DEPARTMENT OF HEALTH AND HUMAN SERVICES

National Institutes of Health

National Human Genome Research Institute; Notice of Meeting

Pursuant to section 401(d)(4) of the Public Health Service Act (42 U.S.C. 281(d)(4)), notice is hereby given that the National Human Genome Research Institute (NHGRI) will host a series of meetings to enable public discussion of the Institute's proposal to reorganize its internal structure. The proposed reorganization reflects the expanding scope of NHGRI's research portfolio in response to the priorities detailed in the Institute's new strategic plan for genomics research, titled “Charting a Course for Genomic Medicine from Base Pairs to Bedside.” (Green, E.D., Guyer, M.S. Nature. (470) 204-213.2011.)

The first public meeting will be a webinar and teleconference on January 18, 2012. The second public meeting will be on February 13, 2012, during the open session of the 64th meeting of the National Advisory Council for Human Genome Research. Background materials on the proposed reorganization and logistical information regarding the two public meetings are available at genome.gov/reorg. Additional information and updated details on these public meetings will be added to this Web site as the dates approach.

Organizing Institute: National Human Genome Research Institute.

Dates and Times: January 18, 2012, at 2:30 p.m. EST.

February 13, 2012, at 1 p.m. EST.

Agenda: The agenda for each meeting will include presentations and discussion about the proposed internal reorganization. Members of the public will have the opportunity to ask questions and provide comments on NHGRI's proposal. Draft agendas, background materials, and instructions for joining the meetings will be made available at genome.gov/reorg. Individuals wishing to submit written questions or comments should send them via email to NHGRIcomments@nih.gov.

Contact Person: Laura Lyman Rodriguez, Ph.D., Office of Policy, Communications, and Education, National Human Genome Research Institute, National Institutes of Health, 31 Center Drive, Room 4B09, Bethesda, MD 20892-2153, (301) 594-7185, NHGRIcomments@nih.gov.

Dated: January 10, 2012.
Eric D. Green,
Director, NHGRI.

[FR Doc. 2012-729 Filed 1-13-12; 8:45 am]

BILLING CODE 4140-01-P